DEPARTMENT OF THE INTERIOR

National Park Service

[NPS-WASO-NAGPRA-21817; PPWOCRADN0-PCU00RP14.R50000]

Notice of Inventory Completion: Washington State Parks and Recreation Commission, Olympia, WA

AGENCY: National Park Service, Interior.

ACTION: Notice.

SUMMARY: The Washington State Parks and Recreation Commission [hereafter State Parks], has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the State Parks. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the State Parks at the address in this notice by October 17, 2016.

ADDRESSES: Alicia Woods, Washington State Parks and Recreation Commission, P.O. Box 42650, Olympia, WA 98504-2650, telephone (360) 902-0939, email Alicia.Woods@parks.wa.gov.

SUPPLEMENTARY INFORMATION: Notice is here given in accordance with the Native American Graves Protection and Repatriation Act (NAGPRA), 25 U.S.C. 3003, of the completion of an inventory of human remains and associated funerary objects under the control of the State Parks. The human remains and associated funerary objects were removed from Cama Beach State Park, Island County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the State Parks professional staff in consultation with representatives of the Stillaguamish Tribe of Indians of Washington (previously listed as the Stillaguamish Tribe of Washington); Swinomish Indian Tribal Community (previously listed as the Swinomish Indians of the Swinomish Reservation of Washington); Tulalip Tribes of Washington (previously listed as the Tulalip Tribes of the Tulalip Reservation of Washington); and Upper Skagit Indian Tribe.

History and Description of the Remains

Between 2004 and 2006, human remains representing, at minimum, three individuals were removed from the Cama Beach Shell Midden Site on Camano Island in Island County, WA. No known individuals were identified. The 483 associated funerary objects are 170 lots of unmodified shell, 1 perforated shell, 124 lots of unmodified bone, 8 modified bone objects, 73 lots of fire modified rock, 13 stone tools, 1 modified wood object, 3 lots of ochre, 42 lots of charcoal, 30 lots of bulk material, 16 historic objects, and 2 lots of botanical material.

Between 2002 and 2006, State Parks contracted Cascadia Archaeology to survey and subsequently perform excavation and data recovery of site 45-IS-2 for the purposes of upgrading sewer and utility lines. Historically the site is a 1930s-1980s fishing and vacation resort with cabins for visitors and housing for owners and management. During excavation and data recovery it was determined the site's prehistoric use was as a seasonal Native American fishing site. During the survey and excavation phases of the project four burials were discovered. The burials were left in-situ and avoided per the request of tribal representatives in consultation with State Parks' staff on-site. The human remains and funerary objects listed in this notice were identified as human in the lab during the analysis phase between 2005 and 2008.

Camano Island is located in Puget Sound between Whidbey Island and mainland Washington State; the Cama Beach Shell Midden site is on the western shores of the island. Saratoga Passage is a waterway between the two islands. Along Saratoga Passage, the shores of both islands are rich in prehistoric Native American seasonal resources sites.

Historical and anthropological sources indicate that the Kikiallus, Swinomish, Lower Skagit and Stillaguamish peoples occupied, and had village sites in, the Penn Cove area of Whidbey Island and on the northwestern shore of Camano Island. The Snohomish people (a predecessor group to, and represented by, the present-day Tulalip Tribes of Washington) had a permanent village at the southernmost end of the island.

Through kinship ties and alliances, and by invitation, the Kikiallus, Upper Skagit, Lower Skagit, Snohomish, Stillaguamish, and Swinomish peoples utilized the waterways, resource grounds, and the beaches of Camano and Whidbey Islands. These peoples shared the same language, and maintained similar economic traditions, social and ceremonial customs, as well as trade and defense alliances.

State Parks staff has determined these human remains and associated funerary objects to be culturally affiliated with the Stillaguamish Tribe of Indians of Washington (previously listed as the Stillaguamish Tribe of Washington); the Swinomish Indian Tribal Community (previously listed as the Swinomish Indians of the Swinomish Reservation of Washington); the Tulalip Tribes of Washington (previously listed as the Tulalip Tribes of the Tulalip Reservation of Washington); and the Upper Skagit Indian Tribe.

Determinations Made by the Washington State Parks and Recreation Commission

Officials of the Washington State Parks and Recreation Commission have determined that:

• Pursuant to 25 U.S.C. 3001(9), the human remains described in this notice represent the physical remains of, at minimum, three individuals of Native American ancestry.

• Pursuant to 25 U.S.C. 3001(3)(A), the 483 objects described in this notice are reasonably believed to have been placed with or near individual human remains at the time of death or later as part of the death rite or ceremony.

• Pursuant to 25 U.S.C. 3001(2), there is a relationship of shared group identity that can be reasonably traced between the Native American human remains and the Stillaguamish Tribe of Indians of Washington (previously listed as the Stillaguamish Tribe of Washington); Swinomish Indian Tribal Community (previously listed as the Swinomish Indians of the Swinomish Reservation of Washington); Tulalip Tribes of Washington (previously listed as the Tulalip Tribes of the Tulalip Reservation of Washington); and Upper Skagit Indian Tribe, Washington.

Additional Requestors and Disposition

Lineal descendants or representatives of any Indian tribe or Native Hawaiian organization not identified in this notice that wish to request transfer of control of these human remains and associated funerary objects should submit a written request with information in support of the request to Alicia Woods, Washington State Parks and Recreation Commission, P.O. Box 42650, Olympia, WA 98504-2650, telephone (360) 902-0939, email Alicia.Woods@parks.wa.gov, by October 17, 2016. After that date, if no additional requestors have come forward, transfer of control of the human remains and associated funerary objects to the Stillaguamish Tribe of Indians of Washington (previously listed as the Stillaguamish Tribe of Washington); the Swinomish Indian Tribal Community (previously listed as the Swinomish Indians of the Swinomish Reservation of Washington); the Tulalip Tribes of Washington (previously listed as the Tulalip Tribes of the Tulalip Reservation of Washington); and the Upper Skagit Indian Tribe may proceed.

The State Parks is responsible for notifying the Stillaguamish Tribe of Indians of Washington (previously listed as the Stillaguamish Tribe of Washington); the Swinomish Indian Tribal Community (previously listed as the Swinomish Indians of the Swinomish Reservation of Washington); the Tulalip Tribes of Washington (previously listed as the Tulalip Tribes of the Tulalip Reservation of Washington); and the Upper Skagit Indian Tribe that this notice has been published.

Dated: August 23, 2016.
Melanie O'Brien,
Manager, National NAGPRA Program.

[FR Doc. 2016-22313 Filed 9-15-16; 8:45 am]

BILLING CODE 4312-50-P